INTERNATIONAL TRADE COMMISSION

Sunshine Act Meeting; Notice

AGENCY HOLDING THE MEETING: United States International Trade Commission.

TIME AND DATE: June 30, 2000 at 10 a.m.

PLACE: Room 101, 500 E Street S.W., Washington, DC 20436, Telephone: (202) 205-2000.

STATUS: Open to the public.

MATTERS TO BE CONSIDERED:

1. Agenda for future meeting: none.

2. Minutes.

3. Ratification List.

4. Inv. Nos. 731-TA-831-832, 835, and 827 (Final) (Certain Cold-Rolled Steel Products from China, Indonesia, Slovakia, and Taiwan)—briefing and vote. (The Commission will transmit its determination to the Secretary of Commerce on July 10, 2000.)

5. Outstanding action jackets: none.

In accordance with Commission policy, subject matter listed above, not disposed of at the scheduled meeting, may be carried over to the agenda of the following meeting.

Issued: June 14, 2000.
By order of the Commission:
Donna R. Koehnke,
Secretary.

[FR Doc. 00-15695 Filed 6-16-00; 2:54 am]

BILLING CODE 7020-02-M